NATIONAL AERONAUTICS AND SPACE ADMINISTRATION

[Notice: 13-039]

NASA Advisory Council; Technology and Innovation Committee; Meeting

AGENCY: National Aeronautics and Space Administration.

ACTION: Notice of meeting.

SUMMARY: The National Aeronautics and Space Administration (NASA) announces a meeting of the Technology and Innovation Committee of the NASA Advisory Council (NAC). The meeting will be held for the purpose of reviewing status of the Space Technology Mission Directorate programs; status of activities within the Office of the Chief Technologist with an emphasis on the discussing the Agency's basic research and engineering sciences efforts; update on the Solar Sail project; status of the NASA Robotics Technologies project and NASA's work with the National Robotics Initiative; and an annual ethics briefing.

DATES: Thursday, April 18, 2013, 8:00 a.m. to 3:15 p.m., Local Time.

ADDRESSES: NASA Headquarters, 300 E Street SW., Room 6Z43, Washington, DC 20546.

FOR FURTHER INFORMATION CONTACT: Mr. Mike Green, Office of the Chief Technologist, NASA Headquarters, Washington, DC 20546, (202) 358-4710, fax (202) 358-4078, or g.m.green@nasa.gov.

SUPPLEMENTARY INFORMATION: The meeting will be open to the public up to the capacity of the room. This meeting is also available telephonically and by WebEx. Any interested person may call the USA toll free conference call number 877-951-7311, passcode 6800761, to participate in this meeting by telephone. The WebEx link is https://nasa.webex.com/, the meeting number is 394 467 816, and the password is TICmte@0418.

The agenda for the meeting includes the following topics:

—Office of the Chief Technologist Update

—Discussion of the Agency's efforts in basic research and engineering sciences

—Space Technology Mission Directorate Update

—Briefing and overview of NASA's Solar Sail project

—Update on NASA's Robotic Technologies and the National Robotics Initiative

It is imperative that the meeting be held on these dates to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Anyah Dembling via email at anyah.b.dembling@nasa.gov or by telephone at (202) 358-5195. U.S. citizens and Permanent Residents (green card holders) are requested to submit their name and affiliation 3 working days prior to the meeting to Anyah Dembling.

Patricia D. Rausch,
Advisory Committee Management Officer, National Aeronautics and Space Administration.

[FR Doc. 2013-07780 Filed 4-3-13; 8:45 am]

BILLING CODE 7510-13-P